GENERAL SERVICES ADMINISTRATION

48 CFR Parts 515, 538, and 552

[GSAR Case 2020-G536; Docket No. GSA-GSAR-2020-0016; Sequence No. 1]

General Services Administration Acquisition Regulation; Clause Number Corrections

AGENCY: Office of Acquisition Policy, General Services Administration (GSA).

ACTION: Final rule.

SUMMARY: The General Services Administration (GSA) is issuing a technical amendment to the General Services Administration Acquisition Regulation (GSAR). This technical amendment updates the GSAR and the Code of Federal Regulations (CFR) to reflect changes to clause renumbering that were erroneously omitted from GSAR Case 2013-G502, Federal Supply Schedule Contracting (Administrative Changes), which was published in the Federal Register.

DATES: Effective: November 4, 2020.

FOR FURTHER INFORMATION CONTACT: Mr. Alexander Beyrent, GSA Acquisition Policy Division, at gsarpolicy@gsa.gov, for clarification of content. For information pertaining to status or publication schedules, contact the Regulatory Secretariat at 202-501-4755. Please cite GSAR Case 2020-G536.

SUPPLEMENTARY INFORMATION:

I. Background

This is a technical amendment to the General Services Administration Acquisition Regulation (GSAR). As part of GSA's regulatory reform efforts, GSA has been performing a comprehensive review of the requirements in the GSAR and has identified several instances where clause numbers need to be amended.

II. Authority for This Rulemaking

Title 40 of the United States Code (U.S.C.) Section 121 authorizes GSA to issue regulations, including the GSAR, to control the relationship between GSA and contractors.

III. Discussion and Analysis

Clause numbers are amended within the following GSAR sections: 515.408 Solicitation provisions and contract clauses; 538.272 MAS price reductions; 552.238-74 Introduction of New Supplies/Services (INSS). GSA intended to change these clause numbers with the publication of GSAR Case 2013-G502; Federal Supply Schedule Contracting (Administrative Changes). However, GSAR Case 2013-G502 added several GSAR clauses and rearranged many others. As a result, there are some instances in the GSAR where clauses have correct titles, but their numbers have not been updated as intended. This technical amendment will update those clause numbers as originally intended.

List of Subjects in 48 CFR Parts 515, 538, and 552

Government procurement.

Jeffrey A. Koses,
Senior Procurement Executive, Office of Acquisition Policy, Office of Governmentwide Policy, General Services Administration.

Therefore, GSA amends 48 CFR parts 515, 538, and 552 as set forth below:

1. The authority citation for 48 CFR parts 515, 538, and 552 continues to read as follows:

Authority: 40 U.S.C. 121(c).

PART 515—CONTRACTING BY NEGOTIATION

515.408 [Amended]

2. Amend section 515.408 by removing from paragraph (e)(1) “552.238-81” and adding “552.238-82” in its place.

PART 538—FEDERAL SUPPLY SCHEDULE CONTRACTING

538.272 [Amended]

3. Amend section 538.272 by removing from paragraph (c) “552.238-75” and adding “552.238-81” in its place.

PART 552—SOLICITATION PROVISIONS AND CONTRACT CLAUSES

552.238-74 [Amended]

4. Amend section 552.238-74 by—

a. Removing from paragraph (b) “identify” and adding “identifying” in its place; and

b. Removing from paragraph (d) ”552.238-81” and adding “552.238-82” in its place.

[FR Doc. 2020-19265 Filed 10-2-20; 8:45 am]

BILLING CODE 6820-61-P